DEPARTMENT OF COMMERCE

International Trade Administration

[A-357-810]

Notice of Rescission of Antidumping Duty Administrative Review; Oil Country Tubular Goods, Other Than Drill Pipe, From Argentina

AGENCY: Import Administration, International Trade Administration, Department of Commerce.

ACTION: Notice of rescission of antidumping duty administrative review.

SUMMARY: In response to a request from the petitioner, the Department of Commerce (the Department) initiated an administrative review of the antidumping duty order on oil country tubular goods from Argentina. This review covers one manufacturer/exporter of the subject merchandise, Siderca S.A.I.C. (Siderca). The Department is now rescinding this review based on record evidence indicating that the respondent had no entries of subject merchandise during the period of review (POR). The POR is August 1, 2002 through July 31, 2003.

DATES: Effective Date: May 7, 2004.

FOR FURTHER INFORMATION CONTACT: Fred Baker or Robert James, AD/CVD Enforcement Group III, Office 8, Import Administration, International Trade Administration, U.S. Department of Commerce, 14th Street and Constitution Avenue, NW., Washington, DC 20230; telephone (202) 482-2924 (Baker), (202) 482-0649 (James).

SUPPLEMENTARY INFORMATION:

Background

On August 11, 1995, the Department published the antidumping duty order on oil country tubular goods from Argentina. See Antidumping Duty Order: Oil Country Tubular Goods from Argentina, 60 FR 41055 (August 11, 1995). On September 2, 2003, United States Steel Corporation (petitioner) requested that the Department conduct an administrative review of sales of the subject merchandise made by Siderca.

On September 30, 2003, the Department initiated the administrative review. See Initiation of Antidumping and Countervailing Duty Administrative Reviews, Requests for Revocation in Part and Deferral of Administrative Review, 68 FR 56262 (September 30, 2003).

On September 30, 2003, the Department issued its antidumping duty questionnaire to Siderca. In response, Siderca stated in an October 22, 2003 submission that it had no consumption entries of subject merchandise during the POR, and requested that the Department rescind the review with respect to Siderca.

On March 11, 2004 the Department issued a supplemental questionnaire to Siderca. In our March 11, 2004 supplemental questionnaire the Department attached a list of shipments of OCTG from Argentina that entered the United States during the POR that the Department had reason to believe had been manufactured by Siderca or its affiliates. We obtained this list by doing an IM-115 run of entries recorded by the U.S. Customs and Border Protection. We asked Siderca to explain why it believed these entries were not subject to this administrative review. Siderca submitted its response on March 22, 2004. Siderca explained that all of the entries were merchandise that were either no longer covered under the antidumping duty order or were not entries for consumption. Siderca submitted supporting documentation along with its explanation. We asked interested parties to submit any comments by April 23, 2004. We received no comments.

Period of Review

The POR is August 1, 2002 through July 31, 2003.

Scope of the Review

Oil country tubular goods (OCTG) are hollow steel products of circular cross-section, including oil well casing and tubing of iron (other than cast iron) or steel (both carbon and alloy), whether seamless or welded, whether or not conforming to American Petroleum Institute (API) or non-API specifications, whether finished or unfinished (including green tubes and limited service OCTG products).

This scope does not cover casing or tubing pipe containing 10.5 percent or more of chromium. Drill pipe was excluded from this order beginning August 11, 2001. See Continuation of Countervailing and Antidumping Duty Orders on Oil Country Tubular Goods From Argentina, Italy, Japan, Korea and Mexico, and Partial Revocation of Those Orders From Argentina and Mexico With Respect to Drill Pipe, 66 FR 38630 (July 25, 2001).

The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

The HTSUS subheadings are provided for convenience and customs purposes. Our written description of the scope of this order is dispositive.

Rescission of Review

On October 22, 2003, Siderca informed the Department that it did not ship OCTG to the United States during the POR, and requested rescission of the administrative review. Furthermore, in response to a subsequent inquiry from the Department, Siderca presented documentation demonstrating that none of the sales the Department had identified as manufactured by Siderca or its affiliates and entered into U.S. Customs territory during the POR were subject to the order. Based upon Siderca's explanation and the evidence on the record, we are satisfied that Siderca has not made any consumption entries, exports, or sales of subject merchandise during the POR. Accordingly, we are rescinding the review.

Pursuant to 19 CFR 351.213(d)(3), the Department may rescind an administrative review, in whole or with respect to a particular exporter or producer, if the Secretary concludes that, during the period covered by the review, there were no entries, exports, or sales of the subject merchandise. Since the evidence shows that there were no entries of OCTG made by Siderca during the POR, the Department is rescinding this review in accordance with 19 CFR 351.213(d)(3).

We are issuing and publishing this notice in accordance with sections 751(a)(1) of the Tariff Act and 19 CFR 351.213(d)(4).

Dated: April 30, 2004.
James J. Jochum,
Assistant Secretary for Import Administration.

[FR Doc. 04-10484 Filed 5-6-04; 8:45 am]

BILLING CODE 3510-DS-P